DEPARTMENT OF ENERGY

Federal Energy Regulatory Commission

[Docket No. AD23-9-000]

Reliability Technical Conference; Supplemental Notice of Technical Conference

As announced in the Notice of Technical Conference issued in this proceeding on August 3, 2023, the Federal Energy Regulatory Commission (Commission) will convene its annual Reliability Technical Conference in the above-referenced proceeding on Thursday, November 9, 2023, from approximately 9 a.m. to 5 p.m. eastern time. The conference will include Commissioner-led and staff-led panels. The conference will be held in-person at the Commission's headquarters at 888 First Street NE, Washington, DC 20426 in the Commission Meeting Room.

The purpose of this conference is to discuss policy issues related to the reliability and security of the Bulk-Power System. The conference will also discuss the impact of the Environmental Protection Agency's proposed rule under section 111 of the Clean Air Act on electric reliability.¹

¹ New Source Performance Standards for Greenhouse Gas Emissions from New, Modified, and Reconstructed Fossil Fuel-Fired Electric Generating Units; Emission Guidelines for Greenhouse Gas Emissions from Existing Fossil Fuel-Fired Electric Generating Units; and Repeal of the Affordable Clean Energy Rule, 88 FR 33240 (proposed May 23, 2023) (to be codified at 40 CFR part 60).

The conference will be open for the public to attend, and there is no fee for attendance. Supplemental notices will be issued prior to the conference with further details regarding the agenda. Information on this technical conference will also be posted on the Calendar of Events on the Commission's website, www.ferc.gov, prior to the event.

The conference will also be transcribed. Transcripts will be available for a fee from Ace Reporting, (202) 347-3700.

Those who wish to nominate themselves for consideration as a panel participant should submit their name, title, company (or organization they are representing), telephone, email, a one-paragraph biography, picture, and panel in which they wish to participate to: 2023_Reliability_Conf@ferc.gov by close of business on October 2, 2023.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this technical conference, please contact Michael Gildea at Michael.Gildea@ferc.gov or (202) 502-8420. For information related to logistics, please contact Sarah McKinley at Sarah.Mckinley@ferc.gov or (202) 502-8368.

Dated: September 22, 2023.
Debbie-Anne A. Reese,
Deputy Secretary.

2023 Reliability Technical Conference

Docket No. AD23-9-000

November 9, 2023, 9:00 a.m.-5:00 p.m.

Morning Session: Bulk Power System Reliability and the Evolving Grid

9:00-9:15 a.m. Opening Remarks and Introductions

9:15-10:45 a.m. Morning Panel 1: State of Bulk Power System Reliability with a Focus on the Changing Resource Mix and Resource Adequacy (Commission Led)

The transformation of the Bulk-Power System is resulting in significant changes to the nation's power supply portfolio. These changes include increased penetrations of inverter-based resources, the increased use and importance of natural gas generating units for system balancing, and the participation of distributed energy resources. Ensuring the adequate supply of electric energy to service loads during peak hours and during extreme weather conditions is also becoming more challenging in many regions of North America. This panel will explore the current state of grid reliability, and resource and energy adequacy, and efforts that can be undertaken to improve them.

The panel will begin with a presentation by NERC of the findings, conclusions, and recommendations from its annual State of Reliability report.

This panel may include a discussion of the following topics and questions:

(1) What should the Commission's top reliability priorities be for the next one to three years? What are potential actions the Commission could take to improve reliability regarding these priorities?

(2) What trends and risks identified in NERC's 2023 State of Reliability Report and the 2023 ERO Reliability Risk Priorities Report warrant the most attention and effort?

(3) Resource adequacy traditionally has been characterized in terms of planning reserve margin, which assesses the excess generating capacity required to meet peak load. NERC and industry have recently been discussing the notion of energy adequacy, which assesses whether there is sufficient energy—power over time—to meet customers' energy needs. Is energy adequacy a more appropriate metric to characterize reliability risks given the changing grid?

(4) NERC has highlighted essential reliability services (e.g., frequency response, voltage control, and ramping capability) as core to maintaining reliable operation of the grid. How does the changing resource mix and characteristics of load affect the needed amount and provision of these essential reliability services? What actions, and by whom, are necessary to ensure adequate levels of these services?

(5) The electric grid is undergoing its most significant changes in a century. How should reliability oversight adapt to this change? Is the existing reliability oversight model flexible and agile enough to help lead the change?

(6) In recent years, reliance on natural gas as a fuel for electric generation has steadily increased. At the Commission's recommendation, the North American Energy Standards Board (NAESB) held forums between August 2022 and July 2023 to discuss the growing interdependence between the natural gas and electric sectors. NAESB issued recommendations to enhance market coordination to address challenges posed by this growing interdependence. Should the Commission prioritize pursuing any specific NAESB recommendation?

(7) Wildfires are no longer considered only a California or Western states issue for grid reliability, as drought conditions are expanding into additional regions including MISO, ERCOT and SPP creating further reliability impacts. What preparations have you taken (or are you considering) to address emerging wildfire and drought reliability risks in your region?

10:45-11:00 a.m. Break

11:00-12:30 p.m. Morning Panel 2: CIP Reliability Standards and the Evolving Grid (Commission Led)

Cybersecurity vulnerabilities and threats continue to evolve at a pace that tests utility cybersecurity programs. These quickly evolving threats present a challenge when assessing whether security controls, including the CIP Reliability Standards, adequately respond to the latest cyber risks. Most utilities and other electric sector stakeholders with mature cybersecurity programs implement an overarching cybersecurity program to oversee all aspects of their cybersecurity activities, including identification of the assets to be protected, staffing, technology selection and procurement, and compliance with the CIP Reliability Standards. However, ongoing and anticipated changes to the interconnected electric grid, such as the shift in the types of energy sources used to generate electricity may disrupt cyber programs. Utilities are digitizing their grids while managing an increasing number of grid-connected devices. As a consequence, utilities require more advanced tools to process and analyze large amounts of data for grid planning, operations, and security. These changes are also leaving uncertainty as to where these digital assets will fit into the cybersecurity regulatory framework and what tools can be used to effectively manage them or even what the future may bring as cyberattacks continue to grow in sophistication. This panel will discuss how the evolving grid affects cybersecurity, the CIP Reliability Standards and compliance, as well as best practices; the challenges of implementing appropriate oversight; and ways in which industry can address these challenges to improve its response to evolving vulnerabilities and threats to reduce the risk to the Bulk-Power System.

(1) Discuss the primary security issues facing electric utilities and describe the prioritization of resources and investment. What are some lessons learned and best practices?

(2) With regard to evolving cyber threats, describe how your cybersecurity program identifies and responds to such conditions. When responding, how do you assess the risk posed to your systems by the threats?

(3) Describe the benefits and challenges of implementing and maintaining a cybersecurity program as the resource mix continues to evolve. How does this program interact with actions to comply with the CIP Reliability Standards? How does such a program help to identify and prioritize security concerns, and what actions are taken to address those concerns, including the application of best practices?

(4) Describe how supply chain security and the use of third-party systems, such as cloud services, are addressed in your risk assessments and implemented in the cybersecurity program. What concerns still exist related to supply chain and third-party systems?

(5) What additional actions can the Commission, NERC, and industry take to further protect the grid from security threats, both physical and cyber?

12:30-1:15 p.m. Lunch Break

Afternoon Session: EPA's “Clean Power Plan 2.0” and Reliability

On May 23, 2023 the EPA issued a notice of proposed rulemaking under section 111 of the Clean Air Act. Several comments submitted to EPA on the proposed rule indicated that implementation of the proposal would affect electric reliability. The afternoon panels will discuss the possible reliability impacts of the rule and possible mitigations.

1:15-2:15 p.m. Afternoon Panel 1: EPA Presentation of EPA Section 111 Proposed Rule (Commission Led)

Joseph Goffman, Principal Deputy Assistant Administrator for the Office of Air and Radiation (OAR), Environmental Protection Agency (EPA), accompanied by staff, will provide an overview of the Section 111 Proposed Rule, and highlight specific issues relevant to the reliable operation of the electric system.

2:15-4:50 p.m. Afternoon Panels 2 and 3: Discuss the Proposed Rule (Staff Led)

—2:15-3:30 p.m. Electric Industry Stakeholders

—3:30-3:40 p.m. Break

—3:40-4:50 p.m. Regional, State, and Local Regulatory Entities

Afternoon Panels 2 and 3 will present perspectives on reliability aspects of the proposed rule, followed by an opportunity for questions and answers. Panelists for both Panels 2 and 3 should be prepared to discuss the following topics and questions:

(1) Will the rule, if implemented as proposed, affect electric reliability? In what ways?

(2) What tools and processes should the Commission, other federal and state agencies, and industry consider in order to implement the proposed rule? What authority should the Commission and other federal and state agencies have in order to address potential reliability issues that could arise during implementation of the proposed rule?

(3) What existing processes for coordination will enable federal and state agencies, planning entities, and industry stakeholders to share ongoing developments relevant to the implementation of the proposed rule?

(4) What specific tools are currently available to agencies to consider impacts to retail consumers? Are there additional tools that should be developed to consider these issues?

4:50-5:00 p.m. Closing Remarks

[FR Doc. 2023-21262 Filed 9-27-23; 8:45 am]

BILLING CODE 6717-01-P